DEPARTMENT OF DEFENSE

Department of the Air Force

Privacy Act of 1974; System of Records

AGENCY: Department of the Air Force, DoD.

ACTION: Notice to amend systems of records.

SUMMARY: The Department of the Air Force is amending a system of records notice in its existing inventory of record systems subject to the Privacy Act of 1974, (5 U.S.C. 552a), as amended.

DATES: This proposed action will be effective without further notice on April 23, 2001, unless comments are received which result in a contrary determination.

ADDRESSES: Send comments to the Air Force Access Programs Manager, Headquarters, Air Force Communications and Information Center/ITC, 1250 Air Force Pentagon, Washington, DC 20330-1250.

FOR FURTHER INFORMATION CONTACT: Mrs. Anne Rollins at (703) 588-6187.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: March 16, 2001.
L.M. Bynum,
Alternate OSD Federal Register Liaison Officer, Department of Defense.

F044 AF SG R

System name:

Reporting of Medical Conditions of Public Health and Military Significance (June 11, 1997, 62 FR 31793).

Changes:

* * * * *

Categories of records in the system:

Delete from entry ‘and both completed and attempted suicides'.

* * * * *

F044 AF SG R

System name:

Reporting of Medical Conditions of Public Health and Military Significance.

System location:

Epidemiology Services Branch, Epidemiologic Research Division, Armstrong Laboratory, 2601 West Gate Road, Suite 114, Brooks Air Force Base, TX 78235-5241, medical centers, hospitals and clinics, medical aid stations, Air National Guard activities, and Air Force Reserve units. Official mailing addresses are published as an appendix to the Air Force's compilation of systems of records notices.

Categories of individuals covered by the system:

Active duty Air Force members and their dependents, civilian Air Force employees, retired Air Force members and their dependents, Air Force Reserve and Air National Guard personnel and foreign national Air Force employees.

Categories of records in the system:

Name, Social Security Number, home address, home phone, date of birth, and records relating to communicable diseases, occupational illnesses, animal bites.

Authority for maintenance of the system:

10 U.S.C. 55, Medical and Dental Care; 10 U.S.C. 8013, Secretary of the Air Force; 28 CFR 1960, Occupational Illness/Injury Reporting Guidelines for Federal Agencies; Air Force Instruction 48-105, Surveillance, Prevention, and Control of Diseases and Conditions of Public Health or Military Significance; and E.O. 9397 (SSN).

Purpose(s):

Records from this system of records will be used for ongoing public health surveillance, which is the systematic collection, analysis, and interpretation of outcome-specific data for use in the planning, implementation, and evaluation of public health practice within the Air Force.

Primary users include appropriate Air Force activity/installation preventive medicine and public health personnel and their major command and Air Force counterparts. Records are used and reviewed by health care personnel in the performance of their duties.

Health care personnel include military and civilian personnel assigned to the Air Force facility where the records are maintained. Students participating in an USAF training program may also use and review records as part of their training program.

Routine uses of records maintained in the system, including categories of users and the purposes of such uses:

In addition to those disclosures generally permitted under 5 U.S.C. 552a(b) of the Privacy Act, these records, or information contained therein, may specifically be disclosed outside the DoD as a routine use pursuant to 5 U.S.C. 552a(b)(3) as follows:

To the officials and employees of the National Research Council and the Department of Veterans Affairs in cooperative studies of the natural history of disease and epidemiology. Each study in which the records of members and former members of the Air Force are used must be approved by the Surgeon General of the Air Force.

To officials and employees of local and state governments in the performance of their official duties pursuant to the laws and regulations governing local control of communicable diseases, preventive medicine and safety programs, and other public health and welfare programs.

The DoD “Blanket Routine Uses” published at the beginning of the Air Force's compilation of record system notices apply to this system, except as stipulated in “Note” below.

Note: Records of identity, diagnosis, prognosis or treatment of any client/patient, irrespective of whether or when he/she ceases to be a client/patient, maintained in connection with the performance of any alcohol/drug abuse treatment function conducted, requested, or directly or indirectly assisted by any department or agency of the United States, shall, except as provided herein, be confidential and be disclosed only for the purposes and under the circumstances expressly authorized in 42 U.S.C. 290dd-2. This statute takes precedence over the Privacy Act of 1974 in regard to accessibility of such records except to the individual to whom the record pertains. The DoD “Blanket Routine Uses” do not apply to these types of records.

Policies and practices for storing, retrieving, accessing, retaining, and disposing of records in the system:

Storage:

Maintained in machine readable form.

Retrievability:

Records are retrieved by name, Social Security Number, reportable event, location, or any combination of these.

Safeguards:

Records are accessed by custodians of the record system and by person(s) responsible for servicing the record system in performance of their official duties who are properly screened. Except when under direct physical control by authorized individuals, records will be electronically stored in computer storage devices protected by computer system software. Computer terminals are located in supervised areas with terminal access controlled by password or other use code systems.

Retention and disposal:

Local retention may vary, but will be no less than 5 years after the fiscal year to which the records relate. After that time, records may be destroyed by erasing, deleting, or overwriting.

System manager(s) and address:

Chief, Epidemiology Services Branch, Epidemiologic Research Division, Armstrong Laboratory (AL/AOES), 2601 West Gate Road, Suite 114, Brooks Air Force Base, TX 78235-5241, or comparable official of the Public Health Office serving the Air Force activity/installation. Official mailing addresses are published as an appendix to the Air Force's compilation of systems of records notices.

Notification procedure:

Individuals seeking to determine whether this system of records contains information on themselves should address written inquiries to Chief, Epidemiology Services Branch, Epidemiologic Research Division, Armstrong Laboratory (AL/AOES), 2601 West Gate Road, Suite 114, Brooks Air Force Base, TX 78235-5241, or comparable official of the Public Health Office serving the Air Force activity/installation. Official mailing addresses are published as an appendix to the Air Force's compilation of systems of records notices.

Written requests should contain the full name and signature of the requester.

Requests in person must be made during normal office duty hours Monday through Friday, excluding national and/or local holidays.

Record access procedures:

Individuals seeking to access records about themselves contained in this system should address written requests to the Chief, Epidemiology Services Branch, Epidemiologic Research Division, Armstrong Laboratory (AL/AOES), 2601 West Gate Road, Suite 114, Brooks Air Force Base, TX 78235-5241, or comparable official of the Public Health Office serving the Air Force activity/installation. Official mailing addresses are published as an appendix to the Air Force's compilation of systems of records notices.

Written requests should contain the full name and signature of the requester.

Requests in person must be made during normal office duty hours Monday through Friday, excluding national and/or local holidays.

Contesting record procedures:

The Air Force rules for accessing records, and for contesting and appealing initial agency determinations are published in Air Force Instruction 37-132; 32 CFR part 806b; or may be obtained from the system manager.

Record source categories:

Records in this system are obtained from DOD and Air Force employees involved in the surveillance, prevention, control, and reporting of diseases and conditions of public health or military significance.

Database is compiled using information from personnel, medical, and casualty records, investigative reports, and environmental sampling data.

Exemptions claimed for the system:

None.

[FR Doc. 01-7168 Filed 3-22-01; 8:45 am]

BILLING CODE 5001-10-M